FARM CREDIT ADMINISTRATION

12 CFR Parts 603, 605, 608, and 611

RIN 3052-AC34

Privacy Act Regulations; Information; Collection of Claims Owed the United States; Organization; Privacy and Security Information

AGENCY: Farm Credit Administration.

ACTION: Final rule.

SUMMARY: The Farm Credit Administration (FCA or Agency) is issuing a final rule to update and amend its regulations regarding privacy and security information and other matters. This action is being taken to correct certain citations in the regulations and to conform the regulations to Executive order 13292.

EFFECTIVE DATE: This regulation will become effective 30 days after publication in the Federal Register during which either one or both houses of Congress are in session. We will publish a notice of the effective date in the Federal Register.

FOR FURTHER INFORMATION CONTACT: Bob Taylor, Attorney, Office of General Counsel, Farm Credit Administration, McLean, VA 22102-5090, (703) 883-4129; TTY (703) 883-4020; or Mike Wilson, Policy Analyst, Office of Regulatory Policy, Farm Credit Administration, McLean, Virginia 22102-5090, (703) 883-4414, TTY (703) 883-4020.

SUPPLEMENTARY INFORMATION: We are amending our regulations to both correct citations in Agency regulations and update part 605 to conform to Executive order 13292. We have found incorrect regulatory citations in parts 603, 608, and 611 of our regulations, and are revising our regulations to include the correct citations. Part 605 of our regulations defines the procedures for acting in matters relating to national security information for classified documents and outlines the basic requirements for obtaining access to classified documents. We are revising the definitions of procedures for “Derivative classification” and “Mandatory declassification review” in part 605 to make them consistent with Executive order 13292.

In acting on this final regulation, the FCA Board determined that notice and public comment are neither required nor necessary under the Administrative Procedure Act, 5 U.S.C. 553(b). Section 553(b)(A) provides that the notice and comment requirements do not apply to rules of Agency organization, procedure, or practice, and as such, the amendments that relate to Agency procedure and practice do not require notice and public comment. In addition, 5 U.S.C. 553(b)(B) provides that notice and comment requirements do not apply when the Agency for good cause finds that notice and public comment are impracticable, unnecessary, or contrary to the public interest. Notice and public comment are unnecessary and contrary to the public interest in this case because the amendments involve only technical revisions to regulatory citations and an update to part 605 to conform to Executive order 13292. A comment period would only delay correction of inaccurate cites. Therefore, these regulations are published in final form.

Regulatory Flexibility Act

Pursuant to section 605(b) of the Regulatory Flexibility Act (5 U.S.C. 601 et seq.), the FCA hereby certifies that the final rule will not have a significant economic impact on a substantial number of small entities. Each of the banks in the Farm Credit System, considered together with its affiliated associations, has assets and annual income in excess of the amounts that would qualify them as small entities. Therefore, Farm Credit System institutions are not “small entities” as defined in the Regulatory Flexibility Act.

List of Subjects

12 CFR Part 603

Privacy.

12 CFR Part 605

Classified information.

12 CFR Part 608

Claims, Government employees, Wages.

12 CFR Part 611

Agriculture, Banks, banking, Rural areas.

As stated in the preamble, parts 603, 605, 608, and 611 of chapter VI, title 12 of the Code of Federal Regulations, are amended as follows:

PART 603—PRIVACY ACT REGULATIONS

1. The authority citation for part 603 continues to read as follows:

Authority: Secs. 5.9, 5.17 of the Farm Credit Act (12 U.S.C. 2243, 2252); 5 U.S.C. app. 3, 5 U.S.C. 552a (j)(2) and (k)(2).

§ 603.345 [Amended]

2. Amend § 603.345 by removing the reference, “§§ 602.267 and 602.269” and adding in its place “§§ 602.11 and 602.12”.

§ 603.350 [Amended]

3. Amend § 603.350 by removing the reference, “Section 552a(1)(3)” the first place it appears and adding in its place “Section 522a(i)(3)”.

PART 605—INFORMATION

4. The authority citation for part 605 continues to read as follows:

Authority: Secs. 5.9, 5.12, 5.17 of the Farm Credit Act (12 U.S.C. 2243, 2246, 2252).

§ 605.500 [Amended]

5. Amend § 605.500 by removing the reference, “12356” and adding in its place “13292”.

§ 605.501 [Amended]

6. Amend § 605.501(b) by removing the reference “2001.32(a)(2)(i)” and adding in its place “2001.33(a)(2)(i)”.

7. Amend § 605.502 as follows:

a. Revise paragraphs (b) and (c);

b. Remove the words, “located in the Agency Services Branch” from the third sentence of paragraph (d);

c. Remove the reference, “4.1(b)” and add in its place “4.2(g)” in the first sentence of paragraph (e); and

d. Remove the reference, “189” in the first sentence and add in its place, “312” and in the second sentence, remove the reference, “12356” and add in its place the reference “13292” in paragraph (i).

§ 605.502 Programs and procedures.

* * * * *

(b) Derivative classification. “Derivative classification” means the incorporating, paraphrasing, restating or generating in new form information that is already classified, and marking the newly developed material consistent with the classification markings that apply to the source information. Derivative classification includes the classification of information based on classification guidance. The duplication or reproduction of existing classified information is not derivative classification.

(c) Mandatory declassification review. “Mandatory declassification review” means the review for declassification of classified information in response to a request for declassification that meets the requirements under section 3.5 of the Executive order. All requests for review for declassification under the mandatory review provisions of the Executive order shall be handled by the Information Security Officer or his/her designee.

* * * * *

PART 608—COLLECTION OF CLAIMS OWED THE UNITED STATES

8. The authority citation for part 608 continues to read as follows:

Authority: Sec. 5.17 of the Farm Credit Act (12 U.S.C. 2252); 31 U.S.C. 3701-3719; 5 U.S.C. 5514; 4 CFR parts 101-105; 5 CFR part 550.

Subpart A—Administrative Collection of Claims

§ 608.807 [Amended]

9. Amend § 608.807 by removing the reference, “§ 602.267” and adding in its place, “§§ 602.11 and 602.12”.

PART 611—ORGANIZATION

10. The authority citation for part 611 continues to read as follows:

Authority: Secs. 1.3, 1.4, 1.13, 2.0, 2.1, 2.10, 2.11, 3.0, 3.2, 3.21, 4.12, 4.15, 4.20, 4.21, 5.9, 5.10, 5.17, 6.9, 6.26, 7.0-7.13, 8.5(e) of the Farm Credit Act (12 U.S.C. 2011, 2013, 2021, 2071, 2072, 2091, 2092, 2121, 2123, 2142, 2183, 2203, 2208, 2209, 2243, 2244, 2252, 2278a-9, 2278b-6, 2279a-2279f-1, 2279aa-5(e)); secs. 411 and 412 of Pub. L. 100-233, 101 Stat. 1568, 1638; secs. 409 and 414 of Pub. L. 100-399, 102 Stat. 989, 1003, and 1004.

Subpart G—Mergers, Consolidations, and Charter Amendments of Associations

§ 611.1124 [Amended]

11. Amend § 611.1124 by removing the reference, “§ 611.1090 of this part” and adding in its place, “section 5.17(a) of the Act” in paragraph (n).

Dated: September 14, 2006.
Roland Smith,
Secretary, Farm Credit Administration Board.

[FR Doc. 06-7951 Filed 9-19-06; 8:45 am]

BILLING CODE 6705-01-P